ENVIRONMENTAL PROTECTION AGENCY

40 CFR Part 52

[EPA-R01-OAR-2020-0719; FRL-10019-44-Region 1]

Air Plan Approval; Connecticut; Regulations To Limit Premises-Wide Actual and Potential Emissions From Major Stationary Sources of Air Pollution

AGENCY: Environmental Protection Agency (EPA).

ACTION: Proposed rule.

SUMMARY: The Environmental Protection Agency (EPA) is proposing to approve a State Implementation Plan (SIP) revision submitted by the State of Connecticut. This revision proposes to approve into the Connecticut SIP state regulations that apply restrictions on emissions of criteria pollutants for which EPA has established National Ambient Air Quality Standards. Separately, we are also proposing to approve Connecticut regulations that apply restrictions on emissions of hazardous air pollutants (HAPs). The Connecticut regulations impose legally and practicably enforceable emissions limitations restricting eligible sources' actual and potential emissions below major stationary source thresholds, if a source chooses to be covered by the regulations. Such restrictions would generally allow eligible sources to avoid having to comply with reasonably available control technology (RACT) that would otherwise apply to major stationary sources, title V operating permit requirements, or other requirements that apply only to major stationary sources. This action is being taken under the Clean Air Act.

DATES: Written comments must be received on or before March 10, 2021.

ADDRESSES: Submit your comments, identified by Docket ID No. EPA-R01-OAR-2020-0719 at https://www.regulations.gov, or via email to bird.patrick@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Susan Lancey, Air Permits, Toxics and Indoor Programs Branch, U.S. Environmental Protection Agency, EPA Region 1, 5 Post Office Square—Suite 100, (Mail code 05-2), Boston, MA 02109-3912, telephone 617-918-1656, email lancey.susan@epa.gov.

SUPPLEMENTARY INFORMATION: Throughout this document whenever “we,” “us,” or “our” is used, we mean EPA.

Table of Contents

I. Background and Purpose

II. Evaluation Under Section 110 of the Clean Air Act

III. Evaluation Under Section 112 of the Clean Air Act

IV. Proposed Action

V. Incorporation by Reference

VI. Statutory and Executive Order Reviews

I. Background and Purpose

In a letter dated October 26, 2020, the Connecticut Department of Energy and Environmental Protection (DEEP) submitted a formal revision to its State Implementation Plan (SIP). The SIP revision consists of Regulations of Connecticut State Agencies (RCSA) section 22a-174-33a, Limit on Premises-wide Actual Emissions Below 50% of Title V Thresholds, effective September 24, 2020, and RCSA section 22a-174-33b, Limit on Premises-wide Actual Emissions Below 80% of Title V Thresholds, effective September 24, 2020, as the regulations relate to criteria pollutants. The Connecticut regulations impose legally and practicably enforceable emissions limitations restricting eligible sources' actual and potential emissions below major stationary source thresholds, if a source chooses to be covered by the regulations.

Federally-enforceable limits on criteria pollutants or their precursors (e.g., VOCs or PM-10) may have the incidental effect of limiting certain HAPs listed pursuant to section 112(b) of the Clean Air Act (CAA or the Act). As a legal matter, no additional program approval by the EPA is required beyond SIP approval under section 110 of the CAA in order for these criteria pollutant limits to be recognized as federally enforceable. However, section 112 of the Act provides the underlying authority for controlling all HAP emissions, regardless of their relationship to criteria pollutant controls.

In a letter dated December 21, 2020, Connecticut DEEP also requested that EPA approve RCSA sections 22a-174-33a and 22a-174-33b under section 112(l) of the CAA, as the regulations relate to HAPs. As noted earlier, RCSA sections 22a-174-33a and 22a-174-33b are designed to limit air pollutant emissions from major stationary sources to below major stationary source thresholds by including legally and practicably enforceable restrictions on potential and actual emissions.

On April 24, 2017 in the Federal Register, EPA approved Connecticut's General Permit to Limit Potential to Emit issued on November 9, 2015 (GPLPE). See 82 FR 18868. The GPLPE expired on November 8, 2020. The GPLPE was a general permit designed to limit air pollutant emissions from major stationary sources to below major source thresholds by including legally and practicably enforceable permit restrictions on potential and actual emissions. Connecticut adopted new RCSA sections 22a-174-33a and 22a-174-33b as a replacement program for the GPLPE, as opposed to a renewal of the GPLPE, in order to avoid a lapse in federal enforceability of the applicable requirements. Therefore, RCSA sections 22a-174-33a and 22a-174-33b are intended to replace the GPLPE as a means of limiting a source's potential to emit to below major stationary source thresholds.

EPA's review of this material indicates the regulations satisfy the criteria necessary for EPA's approval as a SIP revision under section 110 of the CAA and satisfy the criteria necessary to be approved under Section 112 of the CAA. EPA is proposing to approve the Connecticut SIP revision consisting of RCSA section 22a-174-33a, Limit on Premises-wide Actual Emissions Below 50% of Title V Thresholds, effective September 24, 2020, and RCSA section 22a-174-33b, Limit on Premises-wide Actual Emissions Below 80% of Title V Thresholds, effective September 24, 2020, under Section 110 of the CAA. EPA is also separately proposing to approve RCSA section 22a-174-33a, Limit on Premises-wide Actual Emissions Below 50% of Title V Thresholds, effective September 24, 2020, and RCSA section 22a-174-33b, Limit on Premises-wide Actual Emissions Below 80% of Title V Thresholds, effective September 24, 2020, under Section 112 of the CAA.

II. Evaluation Under Section 110 of the Clean Air Act

The State of Connecticut's principal purpose in issuing RCSA sections 22a-174-33a and 22a-174-33b is to have a federally and practicably enforceable means of expeditiously restricting sources' potential and actual emissions of air pollutants, such that those eligible sources would no longer be required to comply with reasonably available control technology (RACT) that would otherwise apply to major stationary sources, title V operating permit requirements, or other requirements that only apply to major stationary sources. The operating permit provisions in title V of the Clean Air Act Amendments of 1990 created interest in mechanisms for limiting sources' potential to emit, thereby allowing eligible sources to avoid being defined as “major” with respect to title V operating permit programs. Please note, however, that a source that is eligible for coverage under RCSA sections 22a-174-33a and 22a-174-33b may still need a title V operating permit if EPA promulgates a National Emissions Standard for Hazardous Air Pollutants (NESHAP) or a New Source Performance Standard (NSPS) which require non-major sources to obtain a title V permit.

Connecticut's RCSA sections 22a-174-33a and 22a-174-33b require the owner or operator committing to operate pursuant to the applicable regulation to submit a notification on forms prescribed by the Commissioner. The owner or operator is required to keep records that include, among other things, calculation of a source's actual emissions of regulated air pollutants and a detailed description of the methodology used to calculate those actual emissions. The methodology used by an eligible source must be selected from a preferential hierarchy of methodologies explicitly identified in the regulations. Under RCSA section 22a-174-33a, facilities may commit to be limited to emissions less than 50% of the title V operating permit program thresholds for a major source; or, alternatively, under RCSA section 22a-174-33b, certain specified source categories may commit to be limited to emissions up to, but no more than, 80% of the title V operating permit program thresholds for a major stationary source provided the owner or operator conducts the additional specified monitoring and any other additional requirements required by RCSA 22a-174-33b for the relevant source category.

Connecticut's RCSA sections 22a-174-33a and 22a-174-33b contain emissions limitations, requirements for the source to calculate actual emissions, recordkeeping requirements, and require subject sources to submit an annual compliance certification. Additionally, as noted above, RCSA section 22a-174-33b provides enhanced monitoring requirements for specific source categories at premises operating according to section 22a-174-33b which limits a source's potential and actual emissions up to, but to no more than, 80% of the title V operating permit program thresholds for a major source.

This approach was developed in accordance with an EPA guidance document entitled “Options for Limiting Potential to Emit of a Stationary Source under Section 112 and Title V of the Clean Air Act,” issued by John Seitz, Office of Air Quality Planning and Standards to EPA Air Division Directors, dated January 25, 1995.¹ This guidance outlines various approaches to establishing federally-enforceable mechanisms to limit emissions from sources that wish to limit potential emissions to below major source levels. Connecticut's RCSA 22a-174-33a and 22a-174-33b satisfy the criteria necessary for EPA's approval as a SIP revision under section 110 of the CAA. The regulations contain legally enforceable limitations on emissions that are also federally and practicably enforceable.

¹ See “Options for Limiting Potential to Emit of a Stationary Source under Section 112 and Title V of the Clean Air Act,” issued by John Seitz, Office of Air Quality Planning and Standards to EPA Air Division Directors, dated January 25, 1995. https://www.epa.gov/sites/production/files/2015-07/documents/ptememo.pdf.

III. Evaluation Under Section 112 of the Clean Air Act

The state of Connecticut has also requested approval of RCSA sections 22a-174-33a and 22a-174-33b under section 112(l) of the Act for the purpose of creating federally enforceable limitations on the potential to emit of HAPs. Approval under CAA section 112(l) is necessary because the SIP approval discussed above, pursuant to section 110 of the Act, does not extend to HAPs. Approval pursuant to section 112(l) of the Act will render RCSA sections 22a-174-33a and 22a-174-33b federally enforceable for sources of HAPs.

In order for EPA to approve Connecticut's RCSA sections 22a-174-33a and 22a-174-33b for limiting the potential to emit of HAPs, the regulations must meet the statutory criteria for approval under section 112(l)(5) of the Act. In a July 10, 1996 Federal Register notice EPA revised 40 CFR part 63, subpart E, to provide for approval of programs designed to limit sources' potential to emit HAPs under the authority of section 112(l) of the CAA. A state must demonstrate that it has satisfied the general approval criteria contained in 40 CFR 63.91(d). The process of providing “up-front approval” assures that a state has met the criteria in section 112(l)(5) of the CAA (as codified in 40 CFR 63.91(d)). That is, that the state has demonstrated that its program contains adequate authorities to assure compliance with each applicable Federal requirement, adequate resources for implementation, and an expeditious compliance schedule. To the extent that these have already been satisfied through a title V program approval, a state need not resubmit information demonstrating that it meets the general approval criteria in 40 CFR 63.91(d). Therefore, under 40 CFR 63.91(d)(3), interim or final title V operating permit program approval satisfies the criteria set forth in 40 CFR 63.91(d) for “up-front approval.” On May 13, 2002, EPA granted full approval of Connecticut's title V operating permit program. See 67 FR 31966. In addition, Connecticut's regulations contain legally and practicably enforceable restrictions on potential and actual emissions. Accordingly, the EPA is proposing to approve RCSA sections 22a-174-33a and 22a-174-33b pursuant to 40 CFR part 63, subpart E and section 112(l) of the Act because the program meets the applicable approval criteria in section 112(l)(5) of the Act and 40 CFR 63.91.

IV. Proposed Action

EPA is proposing to approve Connecticut's RCSA section 22a-174-33a, Limit on Premises-wide Actual Emissions Below 50% of Title V Thresholds, effective September 24, 2020, and RCSA section 22a-174-33b, Limit on Premises-wide Actual Emissions Below 80% of Title V Thresholds, effective September 24, 2020, as a revision to the State's SIP with respect to criteria pollutants and is separately proposing to approve the regulations under section 112(l) of the Act with respect to HAPs. EPA is proposing to approve Connecticut's request in accordance with the requirements of sections 110 and 112 of the CAA.

EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this rule, the EPA is proposing to include in a final EPA rule regulatory text that includes incorporation by reference. In accordance with requirements of 1 CFR 51.5, the EPA is proposing to incorporate by reference the Connecticut regulations to limit premises-wide actual and potential emissions from major stationary sources of air pollution as discussed in section IV. of this preamble. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 3, 2021.
Deborah Szaro,
Acting Regional Administrator, EPA Region 1.

[FR Doc. 2021-02537 Filed 2-5-21; 8:45 am]

BILLING CODE 6560-50-P